DEPARTMENT OF COMMERCE

Foreign-Trade Zones Board

[Docket 46-2007]

Request for Comments on Uniform Treatment (and Related Issues) in Local Access to Foreign-Trade Zone Procedures

Pursuant to the Foreign-Trade Zones Act of 1934, as amended (19 U.S.C. 81a-81u), many local (primarily public) entities have been granted the privilege of establishing foreign-trade zones (FTZs) within or adjacent to U.S. Customs and Border Protection ports of entry. Section 81n of the FTZ Act states, in part, that each such “grantee” of a local FTZ shall operate the zone “as a public utility, and all rates and charges for all services or privileges within the zone shall be fair and reasonable. . . .” In addition, the FTZ Act states that “the grantee shall afford to all who may apply to use the zone . . . uniform treatment under like conditions . . . .” (19 U.S.C. 81n).

Concerns have been raised to the FTZ Board related to uniform treatment in local access (including possible conflicts of interest) where a third-party agent of the grantee(s) may effectively control access to FTZ procedures in a particular community or region. Potential conflicts of interest may be linked to the non-grantee entity also engaging in business -- in competition with other private firms -- to provide various FTZ-related services to potential users of the zone. In this context, we believe that it is appropriate for the FTZ Board to gather information and various parties' views related to potential conflicts of interest in local access to FTZ procedures, including regarding practices that parties believe may be inconsistent with the FTZ Act or the FTZ Board's regulations.

Comment is invited from interested parties. To enable the FTZ Board to gain a full understanding of the range of potential issues, parties may present both current and historical information. Submissions in response to this notice should be marked with “Docket 46-2007.” Business confidential documents may be submitted, if necessary. Any business confidential document should be clearly marked “BUSINESS CONFIDENTIAL” in the upper right-hand corner of each page of the document.

Submissions may be faxed to (202) 482-0002. Physical submission of comments should be directed to the Office of the Executive Secretary, Foreign-Trade Zones Board, Room 2111, U.S. Department of Commerce, 1401 Constitution Avenue, NW., Washington, DC 20230.

While interested parties are always encouraged to provide comments on the operation of the FTZ program, we are requesting comments on this matter by November 30, 2007, so that the Board may proceed with its examination. Questions relating to the submission of comments should be directed to Pierre Duy or Andrew McGilvray at (202) 482-2862.

Dated: September 18, 2007.
Andrew McGilvray,
Executive Secretary.

[FR Doc. E7-18697 Filed 9-20-07; 8:45 am]

BILLING CODE 3510-DS-S